DEPARTMENT OF AGRICULTURE

Forest Service

Okanogana nd Wenatchee National Forests Resource Advisory Committee

AGENCY: Forest Service, USDA.

ACTION: Notice of meeting.

SUMMARY: The Okanogan and Wenatchee National Forests Resource Advisory Committee will meet on Wednesday, September 4, 2002, at the Okanogan and Wenatchee National Forests headquarters main conference room, 215 Melody Lane, Wenachee, Washington. This meeting will begin at 9 a.m. and continue until 3 p.m. The location of the meeting is subject to change, please contact the headquarters office at (509) 662-4335 for meeting location information. Committee members will review Chelan County and Yakima County projects proposed for 2003 under Title II of the Secure Rural Schools and Community Self-Determination Act of 2000. All Okanogan and Wentachee National Forests Resource Advisory Committee meetings are open to the public. Interested citizens are welcome to attend.

FOR FURTHER INFORMATION CONTACT: Direct questions regarding this meeting to Paul Hart, Designated Federal Official, USDA, Wenatchee National Forest, 215 Melody Lane, Wenatchee, Washington 98801, 509-662-4335.

Dated: August 2, 2002.
Sonny J. O'Neal,
Forest Supervisor, Okanogan and Wenatchee National Forests.

[FR Doc. 02-20157 Filed 8-08-02; 8:45 am]

BILLING CODE 3410-11-M